ENVIRONMENTAL PROTECTION AGENCY

[FRL-9197-7]

Best Management Practices for Unused Pharmaceuticals at Health Care Facilities

AGENCY: Environmental Protection Agency (EPA).

ACTION: Notice.

SUMMARY: EPA is requesting public comments on a draft guidance document entitled, Best Management Practices for Unused Pharmaceuticals at Health Care Facilities. The guidance is targeted at hospitals, medical clinics, doctors' offices, long-term care facilities and veterinary facilities. EPA expects that this document will help reduce the amount of pharmaceuticals that are discharged to water bodies.

DATES: EPA requests comments on or before November 8, 2010. Comments received after this date may not be incorporated into the final guidance document.

ADDRESSES: EPA prefers receiving comments by e-mail. Please send e-mail comments to unusedpharms@epa.gov and include your name and organizational affiliation, if any. You may also send comments by postal mail to Meghan Hessenauer, Engineering and Analysis Division (4303T), U.S. Environmental Protection Agency, 1200 Pennsylvania Avenue, NW., Washington, DC 20460.

FOR FURTHER INFORMATION CONTACT: Meghan Hessenauer, Engineering and Analysis Division, telephone: 202-566-1040; e-mail: hessenauer.meghan@epa.gov.

SUPPLEMENTARY INFORMATION: Pharmaceuticals are being discovered in our Nation's waters at very low concentrations. EPA has been studying unused pharmaceutical disposal practices at health care facilities, prompted by the concern that large amounts of pharmaceuticals are being flushed or disposed of down the drain, ultimately ending up in rivers, streams and coastal waters.

The Agency has drafted a guidance document for health care facilities, which describes:

• Techniques for reducing or avoiding pharmaceutical waste;

• Practices for identifying and managing types of unused pharmaceuticals; and

• Applicable disposal regulations.

The guidance is targeted at hospitals, medical clinics, doctors' offices, long-term care facilities and veterinary facilities. EPA expects that this document will help reduce the amount of pharmaceuticals that are discharged to water bodies.

The document is available on EPA's Web site at http://water.epa.gov/scitech/wastetech/guide/unusedpharms_index.cfm.

EPA has visited many facilities and consulted with organizations in the health care industry, as well as federal, state and local government agencies. EPA continues to solicit recommendations from a wide range of stakeholders and welcomes comments on the draft document. We plan to publish a final version of the document in late 2010.

Dated: September 1, 2010.
Ephraim S. King,
Director, Office of Science and Technology.

[FR Doc. 2010-22325 Filed 9-7-10; 8:45 am]

BILLING CODE 6560-50-P